DEPARTMENT OF ENERGY

Federal Energy Regulatory Commission

[Docket No. ER00-3473-000]

Sempra Energy Trading Corp.; Notice of Filing

August 24, 2000.

Take notice that on August 23, 2000, Sempra Energy Trading Corp. (SET) tendered for filing pursuant to section 205 of the Federal Power Act, 16 U.S.C. 824d, SET's Rates Schedules FERC Nos. 12 and 13, providing for the sale of electric energy and ancillary services to San Diego Gas & Electric Company (“SDG&E”), an affiliate of SET.

SET states that its currently effective rate schedules do not provide for sales to SDG&E. It further states that SDG&E has, until recently been required by the California Public Utilities Commission (CPUC) to purchase all of the power required for its bundled retail customers through the California Power Exchange Corporation (the PX). Recently, however, the CPUC has authorized other utilities to make bilateral purchases in order to increase their ability to hedge against volatile prices. The utilities' purchases under such contracts are to be deemed reasonable by the CPUC, SET states, if they have completed certain specified pre-clearance procedures. According to SET, SDG&E has applied for such authorization in an emergency motion filed with the CPUC on August 9, 2000.

The purpose of the instant filing, SET states, is to enable SET to make sales of energy and ancillary services to SDG&E on a bilateral basis, under the conditions approved by the CPUC, or, alternative, under the requirement of open, competitive bidding contained in the CPUC's Affiliate Rules. In order to respond to an August 22, 2000 request for bids by SDG&E, SET asks for Commission action on its filing by September 5, 2000, and proposes an effective date for the tendered rate schedules of September 1, 2000.

SET states that it has served a copy of its filing on the CPUC.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before August 31, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-22151 Filed 8-29-00; 8:45 am]

BILLING CODE 6717-01-M